FEDERAL MARITIME COMMISSION

[Petition P2-03]

Petition of Sinotrans Container Lines Co., Ltd. (SINOLINES) for a Limited Exemption From Section 9(c) of the Shipping Act of 1984; Notice of Filing

Notice is hereby given that Sinotrans Container Lines Co., Ltd. (SINOLINES) (“Petitioner”) has petitioned, pursuant to Section 16 of the Shipping Act of 1984, 46 U.S.C. app. section 1715; and 46 CFR 502.69, for a limited exemption from the tariff publishing requirements of section 9 of the 1984 Act, 46 U.S.C. app section 1708(c). Petitioner seeks an exemption so that it can lawfully reduce rates to meet or exceed the tariff rates of other ocean common carriers on one day's notice.

In order for the Commission to make a thorough evaluation of the Petition, interested persons are requested to submit views or arguments in reply to the Petition no later than August 8, 2003. Replies shall consist of an original and 15 copies, be directed to the Secretary, Federal Maritime Commission, 800 North Capitol Street, NW., Washington, DC 20573-0001, and be served on Petitioner's counsel; Robert B. Yoshitomi and Christopher J. Jackson, Nixon Peabody LLP, 2040 Main Street, Suite 850, Irvine, CA 92614. It is also requested that a copy of the reply be submitted in electronic form (WordPerfect, Word, or ASCII) on diskette, or e-mailed to secretary@fmc.gov. Copies of the petition are available at the Office of the Secretary of the Commission, 800 N. Capitol Street, NW., Room 1046. A copy may also be obtained by sending a request to secretary@fmc.gov or by calling (202) 523-5725. Parties participating in this proceeding may elect to receive service of the Commission's issuances in this proceeding through email in lieu of service by U.S. mail. A party opting for electronic service shall advise the Office of the Secretary in writing and provide an email address where service can be made. Such requests may be directed to secretary@fmc.gov.

By the Commission.
Bryant L. VanBrakle,
Secretary.

[FR Doc. 03-18576 Filed 7-21-03; 8:45 am]

BILLING CODE 6730-01-P